FEDERAL COMMUNICATIONS COMMISSION

47 CFR Part 73

[DA 14-1064; MB Docket No. 08-243; RM-11490]

Radio Broadcasting Services; Charlotte Amalie and Christiansted, Virgin Islands, and Culebra, Puerto Rico.

AGENCY: Federal Communications Commission.

ACTION: Final rule; denial of petition for reconsideration.

SUMMARY: This document denies the Petition for Reconsideration filed by OCC Acquisitions, Inc. First, we reject OCC Acquisitions, Inc.'s argument that La Mas Z Radio Corporation's expression of interest for vacant Channel 237B at Charlotte Amalie, Virgin Islands is a sham. Next, we dismiss as procedurally defective OCC Acquisitions, Inc.'s argument that we should have considered the option of retaining vacant Channel 271B at Charlotte Amalie and adding Channel 237B at that community because this allotment scheme is preferable to the substitution of Channel 237B for Channel 271B at Charlotte Amalie and grant of the Station WNVE(FM) Application. Finally, we conclude that no error was committed in this case by placing the reimbursement responsibility on the ultimate permittee of Channel 237B at Charlotte Amalie, Virgin Islands.

DATES: August 15, 2014.

ADDRESSES: Federal Communications Commission, 445 12th Street SW., Washington, DC 20554.

FOR FURTHER INFORMATION CONTACT: Rolanda F. Smith, Media Bureau, (202) 418-2700.

SUPPLEMENTARY INFORMATION: This is a summary of the Commission's Memorandum Opinion and Order, MB Docket No. 08-243, adopted July 24, 2014, and released July 25, 2014. The full text of this Commission decision is available for inspection and copying during normal business hours in the Commission's Reference Center 445 12th Street SW., Washington, DC 20554. The complete text of this decision may also be purchased from the Commission's duplicating contractor, Best Copy and Printing, Inc., 445 12th Street SW., Room CY-B402, Washington, DC 20054, telephone 1-800-378-3160 or www.BCPIWEB.com. This document is not subject to the Congressional Review Act. (The Commission is, therefore, not required to submit a copy of this Memorandum Opinion and Order to the General Accounting Office pursuant to the Congressional Review Act, see 5 U.S.C. 801(a)(1)(A), because the Petition for Reconsideration was denied.

Federal Communications Commission.
Peter H. Doyle,
Chief, Audio Division, Media Bureau.

[FR Doc. 2014-19411 Filed 8-14-14; 8:45 am]

BILLING CODE 6712-01-P